DEPARTMENT OF ENERGY

Federal Energy Regulatory Commission

[Project No. 15364-000]

Desert Bloom Energy Storage, LLC; Notice of Preliminary Permit Application Accepted for Filing and Soliciting Comments, Motions To Intervene, and Competing Applications

On June 14, 2024, Desert Bloom Energy Storage, LLC, filed an application for a preliminary permit, pursuant to section 4(f) of the Federal Power Act (FPA), proposing to study the feasibility of the Desert Bloom Energy Storage Project (Desert Bloom Project or project) to be located near the city of Las Vegas in Clark County, Nevada. The proposed project would occupy federal land managed by the Bureau of Land Management. The sole purpose of a preliminary permit, if issued, is to grant the permit holder priority to file a license application during the permit term. A preliminary permit does not authorize the permit holder to perform any land-disturbing activities or otherwise enter upon lands or waters owned by others without the owners' express permission.

The proposed project would be a closed-loop pumped storage project that would consist of the following: (1) a new upper reservoir with a maximum elevation of 4,810 feet above mean sea level (MSL), and a storage capacity of 4,900 acre-feet; (2) a new lower reservoir with a maximum elevation of 3,320 feet MSL, and a storage capacity of 4,900 acre-feet; (3) a 21-foot-diameter, 4,300-foot-long concrete and steel penstock; (4) a powerhouse with approximate dimensions of 200 feet by 100 feet and 150 feet high, and containing two vertical single-stage reversible Francis-type pump/turbine units with a total installed capacity of 450 megawatts; (5) a 132-kilovolt, 3.5-mile-long transmission line; and (6) appurtenant facilities. The water used to initially fill the reservoirs and supplement evaporative losses will either be hauled or piped in from a yet-to-be-determined source. The estimated annual generation of the Desert Bloom Project would be 1,170 gigawatt-hours.

Applicant Contact: Jonathan Blum, Desert Bloom Energy Storage, LLC; 10000 West Charleston Blvd., Suite 230, Las Vegas, Nevada 89135; (702) 910-3329.

FERC Contact: Lee Baker; email: everard.baker@ferc.gov; phone: (202) 502-8554.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Acting Secretary Debbie-Anne A. Reese, Federal Energy Regulatory Commission, 888 First Street NE, Washington, DC 20426. Submissions sent via any other carrier must be addressed to: Acting Secretary Debbie-Anne A. Reese, Federal Energy Regulatory Commission, 12225 Wilkins Avenue, Rockville, Maryland 20852. The first page of any filing should include docket number P-15364-000.

More information about this project, including a copy of the application, can be viewed or printed on the “eLibrary” link of Commission's website at http://www.ferc.gov/docs-filing/elibrary.asp. Enter the docket number (P-15364) in the docket number field to access the document. For assistance, contact FERC Online Support.

Dated: October 3, 2024.
Debbie-Anne A. Reese,
Acting Secretary.

[FR Doc. 2024-23385 Filed 10-8-24; 8:45 am]

BILLING CODE 6717-01-P